TENNESSEE VALLEY AUTHORITY

Meeting of the Regional Energy Resource Council

AGENCY: Tennessee Valley Authority (TVA).

ACTION: Notice of meeting.

SUMMARY: The TVA Regional Energy Resource Council (RERC) will hold a webinar meeting on Monday, May 2, 2016, to discuss TVA's potential sale of the Bellefonte Nuclear Site.

DATES: The webinar meeting will be held on Monday, May 2, 2016 from 10:30 a.m. to 12:00 p.m. EDT.

ADDRESSES: The meeting will be conducted by webinar only. To request accommodation for a disability, please contact Beth Keel (contact information below) at least a week in advance of the webinar.

FOR FURTHER INFORMATION CONTACT: Beth Keel, 400 West Summit Hill Drive, WT-11 B, Knoxville, Tennessee 37902, (865) 632-6113.

SUPPLEMENTARY INFORMATION: The RERC was established to advise TVA on its energy resource activities and the priorities among competing objectives and values. Notice of this meeting is given under the Federal Advisory Committee Act (FACA), 5 U.S.C. App. 2.

The meeting agenda includes the following:

1. Welcome and Introductions

2. Update on the Bellefonte Nuclear Plant Site

3. Summary of Public Comments received

4. Council discussion

The webinar is open to the public, through registration by phone or email (call Beth Keel, (865) 632-6113, or email bakeel@tva.gov). No oral comments from the public will be accepted during the webinar session. The public may provide written comments to the RERC at any time through links on TVA's Web site at www.tva.com/rerc or by mailing written comments to the Regional Energy Resource Council, Tennessee Valley Authority, 400 West Summit Hill Drive, WT-11 B, Knoxville, Tennessee 37902.

Dated: April 8, 2016.
Joseph J. Hoagland,
Vice President, Stakeholder Relations, Tennessee Valley Authority.

[FR Doc. 2016-08722 Filed 4-14-16; 8:45 am]

BILLING CODE 8120-08-P